ENVIRONMENTAL PROTECTION AGENCY

[EPA-HQ-ORD-2015-0365; FRL 10007-22-ORD]

Board of Scientific Counselors (BOSC) Air and Energy Subcommittee Meeting—April 2020; Correction

AGENCY: Environmental Protection Agency (EPA).

ACTION: Notice of public meeting; correction.

SUMMARY: The Environmental Protection Agency (EPA), Office of Research and Development (ORD), published a document in the Federal Register of March 18, 2020, giving notice of a meeting of the Board of Scientific Counselors (BOSC) Air and Energy (A-E) Subcommittee. In response to the COVID-19 outbreak, this meeting will now be taking place via videoconference. Due to unforeseen administrative circumstances, EPA is announcing this meeting with less than 15 calendar days' notice.

FOR FURTHER INFORMATION CONTACT: Tom Tracy, Designated Federal Officer (DFO), via phone/voice mail at: (202) 564-6518; via fax at: (202) 565-2911; or via email at: tracy.tom@epa.gov.

SUPPLEMENTARY INFORMATION:

Correction

In the Federal Register of March 18, 2020, in FR Doc. 2020-05579, on page 15447, column 3 correct the Dates and Addresses captions to read:

DATES: The videoconference meeting will be held on Wednesday, April 1, 2020, from 1:00 p.m. to 5:00 p.m. (EDT) and will continue on Thursday, April 2, 2020, from 1:00 p.m. to 4:30 p.m. (EDT). Meeting times are subject to change. This meeting is open to the public. Those who wish to attend must register by March 30, 2020. Comments must be received by March 25, 2020 to be considered by the subcommittee. Requests for the draft agenda or making a presentation at the meeting will be accepted until March 30, 2020.

ADDRESSES: Instructions on how to connect to the videoconference will be provided upon registration at https://epa-bosc-a-e.eventbrite.com. Attendees should register by March 30, 2020. Instructions on the submission of comments remain unchanged.

Dated: March 24, 2020.
Mary Ross,
Director, Office of Science Advisor, Policy, and Engagement.

[FR Doc. 2020-06556 Filed 3-27-20; 8:45 am]

BILLING CODE 6560-50-P